NATIONAL SCIENCE FOUNDATION

Advisory Committee for Geosciences; Committee of Visitors; Notice of Meeting

In accordance with the Federal Advisory Committee Act (Pub. L. 463, as amended), the National Science Foundation announces the following meeting:

Name: Advisory Committee for Geosciences; Committee of Visitors for the Instrumentation and Facilities Program in the Division of Earth Sciences (1755).

Dates/Time: October 24-26, 2001; 8:30 am-5 pm each day.

Place: Room 770, NSF, 4201 Wilson Boulevard, Arlington, VA.

Type of Meeting: Part-Open—(see Agenda, below).

Contact Person: Dr. David Lambert, Program Director, Instrumentation and Facilities Program, Division of Earth Sciences, National Science Foundation, 4201 Wilson Boulevard, Arlington, VA 22230. Telephone: (703) 292-8558.

Purpose of Meeting: To carry out Committee of Visitors (COV) review, including program evaluation, GPRA assessments, and access to privileged materials.

Agenda

Closed: October 24 from 11:00-5:00—To review the merit review processes covering funding decisions made during the immediately preceding three fiscal years of the Instrumentation and Facilities Program.

Open: October 24 from 8:30-11—Introductions, charge and general discussion of selection process. October 25 from 8:30-5 & October 26 from 8:30-5—To assess the results of NSF program investments in the Instrumentation and Facilities Program. This shall involve a discussion and review of results focused on NSF and grantee outputs and related outcomes achieved or realized during the preceding three fiscal years. These results may be based on NSF grants or other investments made in earlier years.

Reason for Closing: The proposals being reviewed include information of a proprietary or confidential nature, including technical information, financial data, such as salaries, and personal information concerning individuals associated with the proposals. These matters are exempt under (4) and (6) of U.S.C. 552b(c), of the Government in the Sunshine Act.

Dated: October 2, 2001.
Susanne Bolton,
Committee Management Officer.

[FR Doc. 01-25096 Filed 10-4-01; 8:45 am]

BILLING CODE 7555-01-M